DEPARTMENT OF STATE

22 CFR Part 42

[Public Notice 3515]

Bureau of Consular Affairs; Visas: Immigrant Religious Workers

AGENCY: Bureau of Consular Affairs, DOS.

ACTION: Final rule.

SUMMARY: This rule amends the Department of State's existing regulation regarding the validity of an immigrant visa issued to an alien worker coming to the United States to perform work in a religious occupation or vocation. The current regulation permits validity of those visas only until September 30, 2000. This rule amends the regulation to extend the program until September 30, 2003. The amendment is necessitated by a change in the authorizing statute.

EFFECTIVE DATE: December 22, 2000.

FOR FURTHER INFORMATION CONTACT: H. Edward Odom, Legislation and Regulations Division, Visa Services, (202) 663-1204.

SUPPLEMENTARY INFORMATION:

What Is the Background of This Regulation?

Immigration Act of 1990

Sec. 151 of the Immigration Act of 1990 (IMMACT 90), Pub. L. 101-649, amended INA 101(a)(27)(C) by adding a new category of special immigrant visas for aliens who will work in a religious occupation or vocation for a religious organization in a professional or other capacity. Unlike the provision for special immigrant ministers of religion, which does not contain a sunset provision, the provisions for religious workers (as defined under INA 101(a)(27)(C)(ii)(II) and (III)), as originally enacted, required religious workers to seek to enter the United States before October 1, 1994.

Immigration and Nationality Technical Corrections Act of 1994

On October 25, 1994, sec. 214 of the Immigration and Nationality Technical Corrections Act of 1994 (Pub. L. 103-416) amended INA 101(a)(27)(C)(ii) to extend the sunset date to before October 1, 1997.

Religious Workers Act of 1997

Sec. 1 of the Religious Workers Act of 1997, Pub. L. 105-54 further extended the deadline for special immigrant religious workers to enter the United States until before October 1, 2000.

Religious Workers Act of 2000

On November 1, 2000, the President signed the Religious Workers Act of 2000 (Pub. L. 106-409), extending the program for three additional years through September 30, 2003.

Final Rule

How Is the Department Amending Its Regulation?

This rule amends 22 CFR 42.32(d)(1)(ii) by changing the date from September 30, 2000 to September 30, 2003 to conform to the statutory requirements of the Religious Workers Act of 2000.

Administrative Procedure Act

The Department's implementation of this regulation as a final rule is based upon the “good cause” exceptions found at 5 U.S.C. 553(b)(B) and (d)(3). As the amendment to the regulation provides a benefit to aliens by extending the special immigrant religious worker program for an additional three years, the Department has determined that it is unnecessary to publish a proposed rule or to solicit comments from the public. In view of this benefit and since the current validity date has already expired, the rule will be made effective immediately upon publication in the Federal Register.

Regulatory Flexibility Act

The Department of State, in accordance with the Regulatory Flexibility Act (5 U.S.C. 605(b)), has reviewed this regulation and, by approving it, certifies that this rule will not have a significant economic impact on a substantial number of small entities.

Unfunded Mandates Reform Act of 1995

This rule will not result in the expenditure by state, local and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

The Department of State does not consider this rule, to be a “significant regulatory action” under Executive Order 12866, section 3(f), Regulatory Planning and Review, and the Office of Management and Budget has waived its review process under section 6(a)(3)(A).

Executive Order 13132

This regulation will not have substantial direct effects on the states, on the relationship between the national government and the states, or on the distribution of power and responsibilities among the various levels of government. Therefore, in accordance with section 6 of Executive Order 13132, it is determined that this rule does not have sufficient federalism implications to warrant the preparation of a federalism summary impact statement.

Paperwork Reduction Act

This rule does not impose any new reporting or record-keeping requirements. The information collection requirement (Form OF-156) contained by reference in this rule was previously approved for use by the Office of Management and Budget (OMB) under the Paperwork Reduction Act.

List of Subjects in 22 CFR Part 42

Aliens, Immigration, Passports and visas.

In view of the foregoing the Department amends 22 CFR Chapter I as follows:

PART 42—[AMENDED]

1. The authority citation for Part 42 continues to read as follows:

Authority: 8 U.S.C. 1104.

2. In § 42.32, revise paragraph (d)(1)(ii) to read as follows:

§ 42.32 Employment based preference immigrants.

* * * * *

(d) * * *

(ii) Timeliness of application. An immigrant visa issued under INA 203(b)(4) to an alien described in INA 101(a)(27)(C), other than a minister of religion, who qualifies as a “religious worker” as defined in 8 CFR 204.5, shall bear the usual validity except that in no case shall it be valid later than September 30, 2003.

* * * * *

Dated: November 13, 2000.
Mary A. Ryan,
Assistant Secretary for Consular Affairs.

[FR Doc. 00-32740 Filed 12-21-00; 8:45 am]

BILLING CODE 4710-06-P